DEPARTMENT OF DEFENSE

United States Marine Corps; Privacy Act of 1974; System of Records

AGENCY: United States Marine Corps, DoD.

ACTION: Notice to delete three records system.

SUMMARY: The U.S. Marine Corps is deleting three systems of records notices from its inventory of records systems subject to the Privacy Act of 1974, as amended (5 U.S.C. 552a).

DATES: Effective July 23, 2007.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records systems notices for records systems subject to the Privacy Act of 1974 (5 U.S.C. 552a), as amended, have been published in the Federal Register and are available from the address above.

The U.S. Marine Corps proposes to delete three systems of records notices from its inventory of record systems subject to the Privacy Act of 1974 (5 U.S.C. 552a), as amended. The changes to the system of records are not within the purview of subsection (r) of the Privacy Act of 1974 (5 U.S.C. 552a), as amended, which requires the submission of new or altered systems reports.

Dated: July 17, 2007.
L.M. Bynum,
Alternate OSD Federal Register Liaison Officer, Department of Defense.

Deletions

MMN00001

Absentee Processing and Deserter Inquiry File (February 22, 1993, 58 FR 10630).

Reason:

Marine Corps' system of records notice MMN0006, Marine Corps Military Personnel Records (OQR/SRB) printed in the Federal Register on April 8, 2002 with the number of 67 FR 16738 which covers this collection. Accordingly, all files have been merged into this system.

MMT00001

Dependent (Title 6) Schools Records System (February 22, 1993, 58 FR 10630).

Reason:

Office of the Secretary, DoD/Joint Staff's DoDEA 26, Department of Defense Education Activity Dependent Children's School Program Files printed in the Federal Register on May 3, 2007, with the number of 72 FR 24572, is a Defense notice which includes the Marine Corps' systems that include this type of collection. Accordingly, all files have been merged into that system.

MRS00002

Marine Corps Reserve Support Center (MCRSC) Management System (February 22, 1993, 58 FR 10630).

Reason:

Marine Corps' system of records notice MMN0006, Marine Corps Military Personnel Records (OQR/SRB) printed in the Federal Register on April 8, 2002 with the number of 67 FR 16738 covers this collection. Accordingly, all files have been merged into this system.

[FR Doc. 07-3559 Filed 7-20-07; 8:45 am]

BILLING CODE 5001-06-M